DEPARTMENT OF TRANSPORTATION

National Highway Traffic Safety Administration

[Docket No. NHTSA-2019-14785]

Agency Information Collection Activities; Submission to the Office of Management and Budget for Review and Approval; Request for Comment; Crash Report Sampling System

AGENCY: National Highway Traffic Safety Administration (NHTSA), Department of Transportation (DOT).

ACTION: Notice and request for comments on an extension of a previously-approved information collection.

SUMMARY: In compliance with the Paperwork Reduction Act of 1995, this notice announces that the Information Collection Request (ICR) abstracted below is being forwarded to the Office of Management and Budget (OMB) for review, and requests comments on the ICR. A Federal Register Notice with a 60-day comment period soliciting comments on the following information collection was published on July 12, 2019. NHTSA received one comment on the 60-day notice, stating the importance of gathering crash data, leveraging technology, and engaging in analysis to find commonalities in crashes and better protect the public. NHTSA has concluded that it is not necessary to make any changes to the information collection based on this comment.

DATES: Comments must be submitted on or before November 25, 2019.

ADDRESSES: Send comments regarding the burden estimate, including suggestions for reducing the burden, to the Office of Management and Budget, Attention: Desk Officer for the Office of the Secretary of Transportation, 725-17th Street NW, Washington, DC 20503.

FOR FURTHER INFORMATION CONTACT: For additional information or access to background documents, contact Jonae Anderson, NHTSA, 1200 New Jersey Avenue SE, W53-470, NSA-210, Washington, DC 20590. Mrs. Anderson's telephone number is (202) 366-1028. Please identify the relevant collection of information by referring to its OMB Control Number.

SUPPLEMENTARY INFORMATION: Before a Federal agency can collect certain information from the public, it must receive approval from the Office of Management and Budget (OMB). In compliance with these requirements, this notice announces that the following information collection request has been forwarded to OMB.

A Federal Register notice with a 60-day comment period soliciting comments on the information collection was published on July 12, 2019 (84 FR 33314). NHTSA received one anonymous comment on the 60-day notice, stating the importance of gathering crash data, leveraging technology, and engaging in analysis to find commonalities in crashes and better protect the public.

NHTSA is committed to collecting and analyzing traffic safety data to identify trends and develop effective countermeasures to make our nation's roads safer for all users. The agency leverages a variety of specialized technology and personnel resources to manage its data collection systems, CRSS included, and works continually to improve its collection and analytical capabilities. Results of these efforts can be seen in the annual data files NHTSA publishes, which are critical resources for all engaged in highway safety research. Additionally, NHTSA provides analytical and statistical support to the public, as well publishing the annual Traffic Safety Facts report, which provides descriptive statistics regarding the current year's traffic crashes. Historical annual reports are also available and located here: https://crashstats.nhtsa.dot.gov/#/DocumentTypeList/12.

NHTSA has concluded that current crash data collection and analysis efforts adequately reflect the intent of this comment and it is not necessary to make any changes to information collection procedures based on this comment.

Title: The Crash Report Sampling System.

OMB Control Number: 2127-0714.

Type of Request: Extension of a previously-approved collection of information.

Type of Review Requested: Regular.

Affected Public: Local Police Jurisdictions and State Crash Database Owners.

Abstract: Under both the Highway Safety Act of 1966 and the National Traffic and Motor Vehicle Safety Act of 1966 (Pub. L. 89-563, Title 1, Sec. 106, 108, and 112) NHTSA has the responsibility to collect crash data that support the establishment and enforcement of motor vehicle regulations and highway safety programs. These regulations and programs are developed to reduce fatalities and the property damage associated with motor vehicle crashes. NHTSA's National Center for Statistics and Analysis (NCSA) maintains a multidisciplinary approach to meet our users' data needs utilizing an efficient combination of census, sample-based, investigation, and existing State files to provide timely information on traffic crashes. CRSS provides sample-based data on fatal, serious injury, and property-damage-only (PDO) crashes that helps users understand highway safety problem areas, develop countermeasures, and identify trends.

CRSS obtains data from a nationally representative probability sample selected from police-reported motor vehicle traffic crashes. Specifically, the CRSS data set includes crashes involving at least one motor vehicle in transport on a trafficway that result in property damage, injury, or a fatality. The crash reports sampled are chosen from selected areas that reflect the geography, population, miles driven, and the number of crashes in the United States. No additional data beyond the selected crash reports is collected. Additionally, the CRSS program neither collects nor publishes any personally identifiable information. Once the crash reports are received they are coded and the data is entered into the CRSS database.

CRSS acquires national information on fatalities, injuries, and property damage directly from existing State police crash reports. The user population includes Federal and State agencies, automobile manufacturers, insurance companies, and the private sector.

Frequency: Ongoing.

Estimated Number of Respondents: 320 Respondents.

Respondents include a combination of State agencies that maintain crash data report databases and local police jurisdictions that investigate crashes and complete crash reports.

Estimated Total Annual Burden Hours: 35,680 hours.

Per the below table, burden hours are calculated differently based on the data collection method. The revised burden estimates in the below table describe the burden for each data collection methods. These estimates are based upon observation and review of the individual PSU's area documentation, which describes the data collection protocols in detail.

Access method | Hours per jurisdiction | Jurisdiction (PJ/state) | Total hours
EDT (Implementation) | 200 | 3 | 600
EDT (Maintenance) | 5 | 8 | 40
State Website | 10 | 14 | 140
Web Service | 60 | 2 | 120
Manual | 470 | 74 | 34,780
Grand Total |  |  | 35,680

Public Comments Invited: You are asked to comment on any aspect of this information collection, including: (a) Whether the proposed collection of information is necessary for the Department's performance; (b) the accuracy of the estimated burden; (c) ways for the Department to enhance the quality, utility and clarity of the information collection; and (d) ways that the burden could be minimized without reducing the quality of the collected information.

Authority: The Paperwork Reduction Act of 1995; 44 U.S.C. Chapter 35, as amended; 49 CFR 1.49; and DOT Order 1351.29.

Chou-Lin Chen,
Associate Administrator for the National Center for Statistics and Analysis.

[FR Doc. 2019-23179 Filed 10-23-19; 8:45 am]

BILLING CODE 4910-59-P